NUCLEAR REGULATORY COMMISSION

10 CFR Part 70

[Docket No. PRM-70-8; NRC-2009-0184]

Nuclear Energy Institute; Notice of Receipt of Petition for Rulemaking

AGENCY: Nuclear Regulatory Commission.

ACTION: Petition for rulemaking; notice of receipt.

SUMMARY: The Nuclear Regulatory Commission (NRC) has received and requests public comment on a petition for rulemaking dated April 16, 2009, filed by the Nuclear Energy Institute (NEI) (petitioner). The petition was docketed by the NRC and has been assigned Docket No. PRM-70-8. The petitioner requests that the NRC amend its regulations to clarify the existing event reporting requirements based on experience gained since the requirements were implemented in 2000.

DATES: Comments must be submitted by August 18, 2009. Comments received after this date will be considered if it is practical to do so, but the Commission is able to ensure consideration only for comments received on or before this date.

ADDRESSES: You may submit comments on this petition by any one of the following methods. Comments submitted in writing or in electronic form will be made available for public inspection. Because your comments will not be edited to remove any identifying or contact information, the NRC cautions you against including any information in your submission that you do not want to be publicly disclosed.

Federal e-Rulemaking Portal: Go to http://www.regulations.gov and search for documents filed under Docket ID NRC-2009-0184. Address questions about NRC dockets to Carol Gallagher 301-492-3668; e-mail Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1677.

Hand deliver comments to: 11555 Rockville Pike, Rockville, Maryland 20852, between 7:30 am and 4:15 pm Federal workdays. (Telephone 301-415-1677).

Fax comments to: Secretary, U.S. Nuclear Regulatory Commission at 301-415-1101.

You can access publicly available documents related to this document using the following methods:

Federal e-Rulemaking Portal: Go to http://www.regulations.gov and search for documents filed under Docket ID NRC-2009-0184.

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

For a copy of the petition, write to Betty Golden, Rulemaking and Directives Branch, Division of Administrative Services, Office of Administration, U.S. Nuclear Regulatory Commission, Washington, DC 20555-0001, Telephone 301-492-3669, toll free 800-368-5642, Betty.Golden@nrc.gov.

FOR FURTHER INFORMATION CONTACT: Michael T. Lesar, Chief, Rulemaking and Directives Branch, Division of Administrative Services, Office of Administration, U.S. Nuclear Regulatory Commission, Washington, DC 20555-0001, Telephone 301-492-3663, toll free 800-368-5642, Michael.Lesar@nrc.gov.

SUPPLEMENTARY INFORMATION:

The Petitioner

NEI is the organization responsible for establishing unified industry policy on matters affecting the nuclear energy industry, including the regulatory aspects of generic operational and technical issues. NEI's members include entities comprising the fuel cycle industry and other nuclear industries. NEI is responsible for coordinating the combined efforts of licensed facilities on matters involving generic NRC regulatory policy issues and generic operational and technical regulatory issues affecting the industry operations of every NRC-licensed operating fuel cycle facility and those under construction.

Background

The petitioner states that in a June 2007 white paper, NEI documented challenges posed by implementation of the 2000 version of 10 CFR part 70, appendix A. The petitioner also states that the NRC had also observed inconsistent reporting of events under Appendix A to10 CFR Part 70 and had developed a matrix of reporting issues based on actual events. A working group, consisting of NRC and industry representatives, was formed to achieve a common understanding of reports required under Appendix A. The petitioner states that industry endorses and is ready to support the following suggested modifications to 10 CFR part 70, appendix A.

Proposed Action

The petitioner requests that 10 CFR part 70, appendix A, be amended to clarify the requirements for reportable safety events based on experience to date. The petitioner believes that these modifications will help ensure a more uniform understanding of the requirements by licensees and NRC, as well as more consistent reporting of events by licensees.

The petitioner's suggested changes to 10 CFR part 70, appendix A, are as follows:

1. In the introductory text to Appendix A, remove “except for (a)(1), (a)(2), and (b)(4), after they have submitted an ISA Summary in accordance with § 70.62(c)(3)(ii). Licensees must comply with (a)(1), (a)(2), and (b)(4) after October 18, 2000.” The petitioner states that this text is no longer needed as the exemption expired October 18, 2004.

2. In paragraph (a) of Appendix A, change the time requirement to submit a written report on events reported to the NRC Operations Center within 1 hour of discovery, from 30 days to 60 days. The petitioner states that a 60 day report provides higher assurance of a more complete report without compromising safety and is consistent with equivalent event reporting requirements for operating nuclear power plants in 10 CFR 50.73(a). The petitioner believes that changing the time limit from 30 days to 60 days does not mean that licensees will take longer to develop and implement corrective actions, which are done on a time scale commensurate with the safety significance of the issue. The petitioner believes that for those cases where it does take longer than 30 days to complete root cause analysis, this change will result in fewer reports that require submittal of an amended report.

3. Revise paragraph (a)(2) of Appendix A to clarify that the intake is associated with a person located outside of the controlled area to make reporting commensurate with the performance requirements described in 10 CFR 70.61(b)(3). The petitioner states that the 30 mg limit may be changed to conform to a revised intake limit.

4. Revise paragraph (a)(3) of Appendix A to read, “An acute chemical exposure to an individual inside the controlled area from licensed material or hazardous chemicals produced from licensed material that could endanger the life of a worker; or, a chemical release involving licensed material or hazardous chemicals produced from licensed materials that results in a concentration outside of the controlled area that exceeds the quantitative standards established as required by 10 CFR 70.61(b)(4)(ii).” The petitioner states that the proposed wording eliminates potential confusion regarding quantitative values for individuals located inside the controlled area. The petitioner states that it also requires reporting if the chemical release concentration is such that it exceeds the quantitative standard for an individual located outside of the controlled area, rather than requiring the licensee to determine if such an exposure actually occurred before being required to make a report.

5. Remove paragraph (a)(5) of Appendix A. The petitioner believes that reporting of this type of event (e.g., loss of controls) is currently required by paragraph (b)(2) of Appendix A. The petitioner states that additionally, a one hour reporting requirement for nuclear criticality safety is not consistent with the allowed risk for other high consequence events for which a single item relied on for safety (IROFS) is allowed.

6. In paragraph (b) of Appendix A, change the time requirement to submit written reports on events reported to the NRC Operations Center within 24 hours of discovery, supplemented with the information in 10 CFR 70.50(c)(1) as it becomes available, from 30 days to 60 days. The petitioner states that a 60 day report provides higher assurance of a more complete report without compromising safety and is consistent with equivalent event reporting requirements for operating nuclear power plants in 10 CFR 50.73a. The petitioner believes that changing the time limit from 30 days to 60 days does not mean that licensees will take longer to develop and implement corrective actions, which are done on a time scale commensurate with the safety significance of the issue. The petitioner states that, for those cases where it does take longer than 30 days to complete a root cause analysis, this change will result in fewer reports that require submittal of an amended report.

7. Revise paragraph (b)(3) of Appendix A to read, “An acute chemical exposure to an individual inside the controlled area from licensed material or hazardous chemicals produced from licensed materials that requires medical treatment at an off-site medical facility.” The petitioner believes that this proposed change would help ensure event reporting at a threshold that the NRC would generally want to know about, and that licensees would generally notify NRC whether or not reporting was required.

8. In paragraph (b)(4) of Appendix A, remove “or may have affected” to clarify NRC's expectation on reporting any natural phenomenon or other external event, including fires internal and external to the facility. The petitioner believes that if the safety function or availability of an IROFS has been affected, then this phrase is very clear. However, the petitioner states that the phrase “or may have affected” is subjective and difficult to interpret for licensees and the NRC. The petitioner states that, for example, a wind storm “may have” impacted an IROFS if it had been more severe. The petitioner believes that the current approach to reporting is not consistent with other event reporting requirements.

9. Remove paragraph (b)(5) of Appendix A because it is redundant with paragraph (b)(1) of Appendix A.

10. The petitioner states that the industry understands that additional NRC staff guidance is being prepared concerning the issuance of reports submitted to the NRC Operations Center concurrent to the news release or other notification concerning any event or situation, related to the health and safety of the public or onsite personnel, or protection of the environment. The petitioner encourages the NRC to issue the guidance for public comment as soon as possible.

Dated at Rockville, Maryland, this 29th day of May 2009.
For the Nuclear Regulatory Commission.
Annette L. Vietti-Cook,
Secretary of the Commission.

[FR Doc. E9-13023 Filed 6-3-09; 8:45 am]

BILLING CODE 7590-01-P